SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that included in this notice are for new information collections and revisions to existing OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB), Office of Management and Budget, Attn: Desk Officer for SSA, Fax: 202-395-6974, E-mail address: OIRA_Submission@omb.eop.gov.

(SSA), Social Security Administration, DCFAM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

Electronic Records Express Third-Party Registration Form—0960-NEW. ERE (Electronic Records Express) is an online system which enables medical providers and various third parties to submit disability claimant information electronically to SSA as part of the disability application process. Third parties who wish to use this system must complete a unique registration process so the Agency can ensure they are authorized to access a claimant's electronic disability folder. This ICR is for the Third Party Registration Form. The respondents are third-party representatives of disability applicants or recipients who want to use ERE to electronically access beneficiary folders and submit information to SSA.

Type of Request: New information collection.

Number of Respondents: 75,784.

Frequency of Response: 1.

Average Burden Per Response: 3 minutes.

Estimated Annual Burden: 3,789 hours.

II. The information collection listed below has been submitted to OMB for clearance. Your comments on the information collection would be most useful if received by OMB and SSA within 30 days from the date of this publication. You can obtain a copy of the OMB clearance package by calling the SSA Reports Clearance Officer at 410-965-0454, or by writing to the address listed above.

Accelerated Benefits Demonstration Project—0960-NEW. The Accelerated Benefits Demonstration Project is a multi-phase study designed to assess whether providing new SSDI beneficiaries with health benefits and employment supports will stabilize or improve their health and help them return to work early. In this long-term study, new SSDI disability recipients (i.e., those who have just begun receiving benefits and who have at least 18 months remaining before they qualify for Medicare) will be divided into three groups: (1) A control group that will just receive their regular SSDI benefits; (2) a treatment group that will receive immediate access to health care benefits; and (3) a treatment group that will receive health care benefits and additional care management, employment, and benefits services and support. The study, which will be conducted for SSA by research contractors and health care experts, will assess whether health benefits alone or health benefits with additional support services improve the health and employment outcomes of new SSDI beneficiaries. The respondents are beneficiaries who have just begun receiving SSDI disability benefits and are not yet eligible for Medicare health benefits.

Type of Request: New information collection.

| 2007: Baseline survey: Screener | 2007: Baseline survey: Interviews | 2008: Baseline survey: Screener | 2008: Baseline survey: Interviews | 2008: Early use survey: Interviews
No. Respondents | 9,669 | 540 | 26,143 | 1,460 | 480
Responses per Respondent | 1 | 1 | 1 | 1 | 1
Minutes per Respondent | 10 | 40 | 10 | 10 | 30
Total Respondent Burden (Hours) | 1,612 | 360 | 4,357 | 243 | 240
Total Burden (Screener + Interview) | 1,972 |  | 4,600 |  | 240

Note: Please note that since publication of the 60-day Federal Register Notice (published on 1/8/07 at 72 FR 834), SSA has made revisions to the study design of this project. These revisions account for the above burden being different than the original published burden.

Dated: April 30, 2007.
Elizabeth A. Davidson,
Reports Clearance Officer, Social Security Administration.

[FR Doc. E7-8497 Filed 5-2-07; 8:45 am]

BILLING CODE 4191-02-P